DEPARTMENT OF TRANSPORTATION

Federal Aviation Administration

14 CFR Part 25

[Docket No. FAA-2020-0476; Special Conditions No. 25-780-SC]

Special Conditions: TC Inter-Informatics A.S., Airbus Model A330-243 Airplane; Single-Occupant, Oblique (Side-Facing) Seats With Inflatable Lapbelts

AGENCY: Federal Aviation Administration (FAA), DOT.

ACTION: Final special conditions; request for comments.

SUMMARY: These special conditions are issued for the Airbus Model A330-243 series airplane. This airplane, as modified by TC Inter-Informatics A.S. (TC Inter-Informatics), will have a novel or unusual design feature when compared to the state of technology envisioned in the airworthiness standards for transport-category airplanes. This design feature is single-occupant, oblique B/E Aerospace Super Diamond seats, equipped with inflatable lapbelts. The applicable airworthiness regulations do not contain adequate or appropriate safety standards for this design feature. These special conditions contain the additional safety standards that the Administrator considers necessary to establish a level of safety equivalent to that established by the existing airworthiness standards.

DATES: This action is effective on TC Inter-Informatics on February 2, 2021. Send comments on or before March 19, 2021.

ADDRESSES: Send comments identified by Docket No. FAA-2020-0476 using any of the following methods:

• Federal eRegulations Portal: Go to http://www.regulations.gov/ and follow the online instructions for sending your comments electronically.

• Mail: Send comments to Docket Operations, M-30, U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

• Privacy: Except for Confidential Business Information (CBI) as described in the following paragraph, and other information as described in 14 CFR 11.35, the FAA will post all comments received without change, to http://www.regulations.gov/, including any personal information you provide. The FAA will also post a report summarizing each substantive verbal contact received about this proposal.

• Confidential Business Information: Confidential Business Information (CBI) is commercial or financial information that is both customarily and actually treated as private by its owner. Under the Freedom of Information Act (FOIA) (5 U.S.C. 552), CBI is exempt from public disclosure. If your comments responsive to this Notice contain commercial or financial information that is customarily treated as private, that you actually treat as private, and that is relevant or responsive to this Notice, it is important that you clearly designate the submitted comments as CBI. Please mark each page of your submission containing CBI as “PROPIN.” The FAA will treat such marked submissions as confidential under the FOIA, and the indicated comments will not be placed in the public docket of this Notice. Send submissions containing CBI to the person indicated in the Contact section below. Comments the FAA receives, which are not specifically designated as CBI, will be placed in the public docket for this rulemaking.

• Docket: Background documents or comments received may be read at http://www.regulations.gov/ at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Alan Sinclair, Airframe and Cabin Safety Section, AIR-675, Transport Standards Branch, Policy and Innovation Division, Aircraft Certification Service, Federal Aviation Administration, 2200 South 216th Street, Des Moines, Washington 98198; telephone and fax 206-231-3215; email alan.sinclair@faa.gov.

SUPPLEMENTARY INFORMATION: The substance of these special conditions previously has been published in the Federal Register for public comment. These special conditions have been derived without substantive change from those previously issued. It is unlikely that prior public comment would result in a significant change from the substance contained herein. Therefore, the FAA has determined that prior public notice and comment are unnecessary, and finds that, for the same reason, good cause exists for adopting these special conditions upon publication in the Federal Register.

Comments Invited

The FAA invites interested people to take part in this rulemaking by sending written comments, data, or views. The most helpful comments reference a specific portion of the special conditions, explain the reason for any recommended change, and include supporting data.

The FAA will consider all comments received by the closing date for comments. The FAA may change these special conditions based on the comments received.

Background

On March 21, 2017, TC Inter-Informatics applied for a supplemental type certificate to install B/E Aerospace Super Diamond specific Model 1031301 seats, equipped with inflatable restraint systems, at oblique angles of 27.25 and 30 degrees to the longitudinal centerline on Airbus Model A330-243 airplanes. The Airbus Model A330-243 airplane, which is a derivative of the Airbus Model A330 airplane currently approved under Type Certificate No. A46NM, is a twin-engine, transport-category airplane with a maximum takeoff weight of 507,063 pounds and seating for 375 passengers.

Type Certification Basis

Under the provisions of title 14, Code of Federal Regulations (14 CFR) 21.101, TC Inter-Informatics must show that the Airbus Model A330-243 airplane, as changed, continues to meet the applicable provisions of the regulations listed in Type Certificate No. A46NM or the applicable regulations in effect on the date of application for the change, except for earlier amendments as agreed upon by the FAA.

If the Administrator finds that the applicable airworthiness regulations (e.g., 14 CFR part 25) do not contain adequate or appropriate safety standards for the Airbus Model A330-243 airplane because of a novel or unusual design feature, special conditions are prescribed under the provisions of § 21.16.

Special conditions are initially applicable to the model for which they are issued. Should the applicant apply for a supplemental type certificate to modify any other model included on the same type certificate to incorporate the same novel or unusual design feature, these special conditions would also apply to the other model under § 21.101.

In addition to the applicable airworthiness regulations and special conditions, the Airbus Model A330-243 airplane must comply with the fuel-vent and exhaust-emission requirements of 14 CFR part 34, and the noise-certification requirements of 14 CFR part 36.

The FAA issues special conditions, as defined in 14 CFR 11.19, in accordance with § 11.38, and they become part of the type certification basis under § 21.101.

Novel or Unusual Design Features

The Airbus Model A330-243 airplane, as modified by TC Inter-Informatics, will incorporate the following novel or unusual design feature:

Single-occupant, oblique seats equipped with inflatable lapbelts.

Discussion

Amendment 25-15 to part 25, dated October 24, 1967, introduced the subject of side-facing seats, and a requirement that each occupant in a side-facing seat must be protected from head injury by a safety belt and a cushioned rest that will support the arms, shoulders, head, and spine.

Subsequently, amendment 25-20, dated April 23, 1969, clarified the definition of side-facing seats to require that each occupant of a seat, positioned at more than an 18-degree angle to the vertical plane of the airplane longitudinal centerline, must be protected from head injury by a safety belt and an energy-absorbing rest that will support the arms, shoulders, head, and spine; or by a safety belt and shoulder harness that will prevent the head from contacting any injurious object. The FAA concluded that an 18-degree angle would provide an adequate level of safety based on tests that were performed at that time, and thus adopted that standard.

Part 25 was amended June 16, 1988, by amendment 25-64, to revise the emergency-landing conditions that must be considered in the design of the airplane. Amendment 25-64 revised the static-load conditions in 14 CFR 25.561, and added the new § 25.562 that requires dynamic testing for all seats approved for occupancy during takeoff and landing. The intent of amendment 25-64 is to provide an improved level of safety for occupants on transport-category airplanes. Because most seating is forward-facing on transport-category airplanes, the pass/fail criteria developed in amendment 25-64 focused primarily on these seats. As a result, the FAA issued Policy Memorandums ANM-03-115-30 and PS-ANM-100-2000-00123 to provide the additional guidance necessary to demonstrate the level of safety required by the regulations for side-facing seats.

To reflect current research findings, the FAA issued PS-ANM-25-03-R1, “Technical Criteria for Approving Side-Facing Seats,” November 5, 2012, which updates injury criteria for fully side-facing seats. This policy statement was issued to define revised injury criteria associated with neck and leg injuries.

The proposed Airbus Model A330-243 airplane, with an oblique seating configuration by TC Inter-Informatics, is novel such that the Airbus Model A330-243 airplane certification basis does not adequately address protection of the occupant's neck and spine for seat configurations that are positioned at an angle greater than 18 degrees from the airplane centerline. Therefore, the TC Inter-Informatics proposed configuration requires new special conditions.

These special conditions will provide head-injury criteria, neck-injury criteria, spine-injury criteria, and body-to-wall contact criteria. They contain the additional safety standards that the Administrator considers necessary to establish a level of safety equivalent to that established by the existing airworthiness standards.

Applicability

These special conditions are applicable to Airbus Model A330-243 airplanes with B/E Aerospace Super Diamond business class seats installed, per TC Inter-Informatics project-specific certification plan JD-45AC01-1. Should TC Inter-Informatics apply at a later date for a supplemental type certificate to modify any other model included on Type Certificate No. A46NM to incorporate the same novel or unusual design feature, these special conditions would apply to that model as well.

Conclusion

This action affects only a certain novel or unusual design feature on one model of airplane. It is not a rule of general applicability, and affects only the applicant who applied to the FAA for approval of this feature on the airplane.

List of Subjects in 14 CFR Part 25

Aircraft, Aviation safety, Reporting and recordkeeping requirements.

Authority Citation

The authority citation for these special conditions is as follows:

Authority: 49 U.S.C. 106(f), 106(g), 40113, 44701, 44702, 44704.

The Special Conditions

Accordingly, pursuant to the authority delegated to me by the Administrator, the following special conditions are issued as part of the type certification basis for Airbus Model A330-243 airplanes as modified by TC Inter-Informatics.

Single-Occupant, Oblique (Side-Facing) Seats Special Conditions

1. Existing Criteria

All injury protection criteria of § 25.562(c)(1) through (c)(6) apply to the occupant of an oblique (side-facing) seat. Head-injury criterion (HIC) assessments are only required for head contact with the seat and adjacent structures. If the ATD has no apparent contact with a seat or structure, but does have contact with an inflatable restraint, the HIC15 score for that contact must be less than 700.

2. Body-to-Wall/Furnishing Contact Criteria

If an oblique seat is installed aft of structure (e.g., an interior wall or furnishing) that does not provide a homogenous contact surface for the expected range of occupants and yaw angles, then additional analysis or tests may be required to demonstrate that the injury criteria are met for the area which an occupant could contact. For example, if different yaw angles could result in different inflatable-restraint performance, then additional analysis or separate tests may be necessary to evaluate performance.

3. Neck-Injury Criteria

The seating system must protect the occupant from experiencing serious neck injury. The assessment of neck injury must be conducted with the inflatable restraint activated, unless there is reason to also consider that the neck-injury potential would be higher below the inflatable restraint threshold. If so, additional tests may be required.

a. The Nij (calculated in accordance with 49 CFR 571.208) must be below 1.0, where Nij = Fz/Fzc + My/Myc, and Nij intercepts limited to:

i. Fzc = 1530 lb. for tension

ii. Fzc = 1385 lb. for compression

iii. Myc = 229 lb-ft in flexion

iv. Myc = 100 lb-ft in extension

b. In addition, peak Fz must be below 937 lb. in tension and 899 lb. in compression.

c. Rotation of the head about its vertical axis relative to the torso is limited to 105 degrees in either direction from forward-facing.

d. The neck must not impact any surface.

4. Spine and Torso Injury Criteria

a. The shoulders must remain aligned with the hips throughout the impact sequence, or support for the upper torso must be provided to prevent forward or lateral flailing beyond 45 degrees from the vertical during significant spinal loading.

b. Significant concentrated loading on the occupant's spine, in the area between the pelvis and shoulders during impact, including rebound, is not acceptable.

c. Occupant must not interact with the armrest or other seat components in any manner significantly different than would be expected for a forward-facing seat installation.

5. Longitudinal Tests

These must be performed, as necessary, with the Hybrid III ATD, undeformed floor, most critical yaw cases for injury, and with all lateral structural supports (armrests and walls) installed. For the pass/fail injury assessments, see the criteria listed in special conditions 1 through 4, above.

Note: TC Inter-Informatics A.S. must demonstrate that the installation of seats via plinths or pallets meets all applicable requirements. Compliance with the guidance contained in FAA Policy Memorandum PS-ANM-100-2000-00123, dated February 2, 2000, titled “Guidance for Demonstrating Compliance with Seat Dynamic Testing for Plinths and Pallets,” is acceptable to the FAA.

Inflatable Lapbelt Conditions

If inflatable lapbelts are installed on single-place side-facing seats, the inflatable lapbelts must meet the requirements of Special Conditions No. 25-395-SC.

Issued in Des Moines, Washington, on January 27, 2021.
Suzanne Masterson,
Manager, Transport Airplane Strategic Policy Section, Policy and Innovation Division, Aircraft Certification Service.

[FR Doc. 2021-02139 Filed 2-1-21; 8:45 am]

BILLING CODE 4910-13-P